NATIONAL SCIENCE FOUNDATION

Earth Science Proposal Review Panel; Notice of Meeting

In accordance with the Federal Advisory Committee Act (Public Law 92-463, as amended), the National Science Foundation announces the following meeting:

Name: Earth Sciences Proposal Review Panel (1569).

Date/Time: March 21-23, 2001, 8 a.m.-6 p.m.

Place: National Science Foundation, 4201 Wilson Boulevard, Arlington, VA Rm. 110.

Type of Meeting: Closed.

Contact Person: Dr. Herman B. Zimmerman, Division Director, Division of Earth Sciences, Room 785, National Science Foundation, Arlington, VA (703) 292-8550.

Purpose of Meeting: To provide advice and recommendations concerning proposals submitted to NSF for financial support.

Agenda: To review and evaluate earth sciences proposals as part of the selection process for awards.

Reason for Closing: The proposals being reviewed include information of a proprietary or confidential nature, including technical information; financial data, such as salaries; and personal information concerning individuals associated with proposals. These matters are exempt under 5 U.S.C. 552b(c), (4) and (6) of the Government in the Sunshine Act.

Dated: February 20, 2001.
Susanne Bolton,
Committee Management Officer.

[FR Doc. 01-4561 Filed 2-23-01; 8:45 am]

BILLING CODE 7555-01-M